DEPARTMENT OF DEFENSE

Department of the Navy

32 CFR Part 744

[Docket ID: USN-2020-HQ-0005]

RIN 0703-AB27

Policies and Procedures for the Protection of Proprietary Rights in Technical Information Proposed for Release to Foreign Governments

AGENCY: Department of the Navy, Department of Defense (DoD).

ACTION: Final rule.

SUMMARY: This final rule removes the Navy regulation on the Policies and Procedures for the Protection of Proprietary Rights in Technical Information Proposed for Release to Foreign Governments because its content is duplicative of a DoD-level regulation. The rule is redundant and unnecessary. Therefore, this rule can be removed from the Code of Federal Regulations (CFR).

DATES: This rule is effective on February 22, 2022.

FOR FURTHER INFORMATION CONTACT: Captain Bruce Gragert, United States Navy, 2000 Navy Pentagon, Room 4B654, Washington, DC 20350-2000, telephone: 703-692-5310.

SUPPLEMENTARY INFORMATION: It has been determined that publication of this CFR part removal for public comment is impracticable, unnecessary, and contrary to public interest since it is removing a duplicative rule memorialized elsewhere in the CFR. The rule provides guidance to Department of the Navy entities on the same delegation of authority captured in 32 CFR 264.4(d)(3). It does not add or subtract requirements beyond those already established.

This rule is not significant under Executive Order 12866, “Regulatory Planning and Review.”

List of Subjects in 32 CFR Part 744

Military personnel.

PART 744—[REMOVED]

Accordingly, by the authority of 5 U.S.C. 301, 32 CFR part 744 is removed.

J.M. Pike,
Commander, Judge Advocate General's Corps, U.S. Navy, Federal Register Liaison Officer.

[FR Doc. 2022-03625 Filed 2-18-22; 8:45 am]

BILLING CODE 3810-FF-P